DEPARTMENT OF THE INTERIOR

Fish and Wildlife Service

[FWS-R5-ES-2014-0047; FXES11120500000]

Early Scoping for an Anticipated Application for Incidental Take Permit and Draft Habitat Conservation Plan; North Allegheny Wind Facility

AGENCY: Fish and Wildlife Service, Interior.

ACTION: Notice of initiation of scoping.

SUMMARY: Pursuant to the Endangered Species Act (ESA) and the National Environmental Policy Act (NEPA), we, the U.S. Fish and Wildlife Service (Service), announce our intent to prepare a NEPA document for an anticipated Incidental Take Permit (ITP) application and associated draft habitat conservation plan (HCP) from the North Allegheny Wind, LLC, a wholly owned subsidiary of Duke Energy Generating Services (or Duke Energy Renewables) for operation of their wind facility within occupied habitat of the northern long-eared bat (Myotis septentrionalis) and the federally listed endangered Indiana bat (Myotis sodalis). The northern long-eared bat has recently been proposed for listing as endangered under the ESA. Wind turbine operation has the potential to incidentally take Indiana bats and northern long-eared bats. Therefore, Duke Energy Renewables is developing an ITP application and HCP to address this activity.

In advance of receiving the ITP application for this project, the Service is providing this notice to request information from other agencies, tribes, and the public on the scope of the NEPA review and issues to consider in the NEPA analysis and in development of the HCP.

DATES: We will accept comments received or postmarked on or before December 18, 2014. Comments submitted electronically using the Federal eRulemaking Portal (see ADDRESSES) must be received by 11:59 p.m. Eastern Time on the closing date.

ADDRESSES: You may submit written comments by one of the following methods:

Electronically: Go to http://www.regulations.gov. Follow the instructions for submitting comments on Docket No. FWS-R5-ES-2014-0047, which is the docket number for this notice. Click on the appropriate link to locate this document and submit a comment.

By hard copy: Submit by U.S. mail or hand-delivery to Public Comments Processing, Attn: FWS-R5-ES-2014-0047; Division of Policy and Directives Management; U.S. Fish and Wildlife Service, MS: BPHC; 5275 Leesburg Pike, Falls Church, VA 22041-3803.

We request that you send comments by only the methods described above. We will post all information received on the Web site at: http://www.regulations.gov. This generally means that we will post any personal information you provide us (see the Public Comments section below for more information).

FOR FURTHER INFORMATION CONTACT: Lora Zimmerman, by mail at U.S. Fish and Wildlife Service, 315 South Allen Street, Suite 322, State College, PA 16801, or by telephone at 814-234-4090, extension 233.

SUPPLEMENTARY INFORMATION: We announce our intent to prepare a NEPA document for a pending ITP application and associated draft HCP from Duke Energy Renewables. Duke Energy Renewables currently owns and operates the North Allegheny Wind Project, a utility-scale wind generation facility in Blair and Cambria Counties, Pennsylvania. A map depicting the wind facility on the landscape can be viewed on the Service's Pennsylvania Field Office Web page; http://www.fws.gov/northeast/pafo//pdf/NAW_LocationMap_100914.pdf . The facility consists of 35 2-megawatt turbines, a network of electrical collector lines, and access roads. The facility is situated in predominantly forested lands that harbor the federally listed endangered Indiana bat and the proposed endangered northern long-eared bat. Construction of the facility was completed in 2008, and commercial operation began in September 2009. Take of one Indiana bat occurred in September 2011. As a result, the company has been operating at a cut in speed we believe that will avoid further take while permit materials are being developed and final decisions are made. As indicated above, wind turbine operation has the potential to incidentally take Indiana bats and northern long-eared bats. Therefore, Duke Energy Renewables is developing an ITP application and HCP to address these activities.

In advance of receiving the ITP application for this project, the Service is providing this notice to request information from other agencies, Tribes, and the public on the scope of the NEPA review and issues to consider in the NEPA analysis and in development of the HCP. We believe we can proceed with an Environmental Assessment (EA), with the caveat that we will use it to evaluate, in conjunction with the public comments, whether any significant impacts would require further analysis in an Environmental Impact Statement.

Request for Information

We request data, comments, information, and suggestions from the public, other concerned governmental agencies, the scientific community, Tribes, industry, or any other interested party on this notice. We will consider all comments we receive in complying with the requirements of NEPA and in the development of the HCP and ITP.

We seek comments particularly related to:

(1) Information concerning the biology, range, distribution, population size, and population trends of Indiana bats, northern long-eared bats, and other federally listed species that occur in Pennsylvania that could be affected by proposed covered activities;

(2) Relevant data and information concerning wind turbine operation and bat interactions; and

(3) Any other issues relating to the human environment and potential impacts that we should consider with regard to the covered activities and potential ITP issuance (e.g., cultural and historical resources, migratory birds, etc).

You may submit your comments and materials considering this notice by one of the methods listed in the ADDRESSES section.

Background

Indiana bats are listed as an endangered species under the ESA. The population decline of this species has historically been attributed to habitat loss and degradation of both winter hibernation habitat (hibernacula) and summer roosting habitat, human disturbance during hibernation, and possibly pesticides. A more recent threat to Indiana bats has been the emergence of white-nose syndrome (WNS), an infectious fungal disease that has led to significant population declines in some parts of the species' range, including the northeastern and southeastern United States.

The range of the Indiana bat includes much of the eastern United States, including Pennsylvania. Winter habitat for the Indiana bat includes caves and mines that support high humidity and cool-but-stable temperatures. In the summer, Indiana bats roost in trees (dead, dying, or alive) with exfoliating bark, cracks, crevices, and/or hollows. During summer, males roost alone or in small groups, while females and their offspring can roost in larger groups. Indiana bats forage for insects in and along the edges of forested areas and wooded stream corridors.

Northern long-eared bats have recently been proposed for listing as endangered under the ESA. WNS is the predominant threat to the species, though other threats may include impacts to hibernacula and summer habitat, and disturbance of hibernating bats. Northern long-eared bats have been abundant in the eastern United States and are often captured in summer mist nets surveys and detected during acoustic surveys. Northern long-eared bats are known to use forested habitats throughout Pennsylvania. Similar to Indiana bats, northern long-eared bats generally hibernate in caves and mines during the winter. During the summer, the bats roost in live or dead trees, though they are also known to use human-made structures such as barns, sheds, and bat boxes.

Bats are known to be killed in significant numbers by utility-scale wind turbines in the eastern United States. Bats have very low reproductive rates, with females of most species typically producing only one offspring per year. Fatalities resulting from wind facilities are considered to be additive to baseline fatalities, that is, they are fatalities above and beyond that which would be expected to occur due to baseline ecological and biological factors, such as old age, predation, and climatic extremes. Furthermore, with respect to Indiana bats and northern long-eared bats, the additive mortality from wind facilities is expected to exacerbate population declines that have resulted from WNS.

The Federal action that will be analyzed through NEPA will be the potential issuance of an ITP to allow incidental take of Indiana bats and northern long-eared bats from wind turbines that will be described in the HCP. The HCP will incorporate avoidance, minimization, mitigation, monitoring, and reporting measures aimed at addressing the impact of the covered activities to Indiana bats and northern long-eared bats. A description of the covered lands is currently under development for the HCP, but will likely include the 35 turbines, turbine pads, electric lines, and access roads. The covered activities in the HCP are anticipated to include turbine operation, maintenance activities, decommissioning, and mitigation actions that have the potential to result in incidental take of Indiana bats and northern long-eared bats. Because curtailment of operating turbines is the only method presently known to effectively reduce bat fatalities due to wind turbine operation, this will likely be the primary minimization measure employed. The permit term is under development but is likely to be coextensive with the predicted operating life of the turbines, generally between 20-30 years.

The NEPA analysis will assess the direct, indirect, and cumulative impacts of the proposed Federal action on the human environment, comprehensively interpreted to include the natural and physical environment and the relationship of people with that environment. It will also analyze several alternatives to the proposed Federal action, to include no action, and other reasonable courses of action. Relevant information provided in response to this notice will aid in developing the draft HCP and NEPA analysis.

Next Steps

In this phase of the project, we are seeking information to assist development of the NEPA analysis and the draft HCP. We will then develop a draft NEPA document based on the ITP application, Applicant's draft HCP, any associated documents, and public comments received through this early scoping effort. We will then publish a notice of availability for the draft NEPA document and draft HCP and seek additional public comment before completing our final analysis to determine whether to issue an ITP.

Public Comments

The Service invites the public to provide comments that will assist our NEPA analysis during this 30-day public comment period (see DATES). You may submit comments by one of the methods shown under ADDRESSES.

Public Availability of Comments

We will post all public comments and information received electronically or via hardcopy at http://regulations.gov. All comments received, including names and addresses, will become part of the administrative record and will be available to the public. Before including your address, phone number, electronic mail address, or other personal identifying information in your comment, you should be aware that your entire comment—including your personal identifying information—will be publicly available. If you submit a hardcopy comment that includes personal identifying information, you may request at the top of your document that we withhold this information from public review. However, we cannot guarantee that we will be able to do so.

Authority

This notice is provided pursuant to NEPA regulations (40 CFR 1501.7 and 1508.22).

Dated: October 27, 2014.
Paul Phifer,
Assistant Regional Director, Ecological Services, Northeast Region.

[FR Doc. 2014-27255 Filed 11-17-14; 8:45 am]

BILLING CODE 4310-55-P